DEPARTMENT OF THE TREASURY

Alcohol and Tobacco Tax and Trade Bureau

27 CFR Part 9

[Notice No. 39]

RIN 1513-AA95

Proposed Establishment of the Shawnee Hills Viticultural Area (2002R-345P)

AGENCY: Alcohol and Tobacco Tax and Trade Bureau, Treasury.

ACTION: Notice of proposed rulemaking.

SUMMARY: The Alcohol and Tobacco Tax and Trade Bureau proposes to establish the Shawnee Hills viticultural area in southern Illinois. This proposed 1,268,960-acre viticultural area is approximately 80 miles long east to west and approximately 20 miles wide from north to south. We designate viticultural areas to allow vintners to better describe the origin of their wines and to allow consumers to better identify wines they may purchase. We invite comments on this proposed addition to our regulations.

DATES: We must receive your written comments on or before June 7, 2005.

ADDRESSES: You may send comments to any of the following addresses:

• Chief, Regulations and Procedures Division, Alcohol and Tobacco Tax and Trade Bureau, Attn: Notice No. 39, P.O. Box 14412, Washington, DC 20044-4412.

• 202-927-8525 (facsimile).

• nprm@ttb.gov (e-mail).

• http://www.ttb.gov/alcohol/rules/index.htm. An online comment form is posted with this notice on our Web site.

• http://www.regulations.gov (Federal e-rulemaking portal; follow instructions for submitting comments).

You may view copies of this notice, the petition, the appropriate maps, and any comments we receive about this notice by appointment at the TTB Library, 1310 G Street, NW., Washington, DC 20220. To make an appointment, call 202-927-2400. You may also access copies of the notice and comments online at http://www.ttb.gov/alcohol/rules/index.htm.

See the Public Participation section of this notice for specific instructions and requirements for submitting comments, and for information on how to request a public hearing.

FOR FURTHER INFORMATION CONTACT: Rita Butler, Regulations and Procedures Division, Alcohol and Tobacco Tax and Trade Bureau, 1310 G Street NW., Washington, DC 20220; telephone 202-927-8210.

SUPPLEMENTARY INFORMATION:

Background on Viticultural Areas

TTB Authority

Section 105(e) of the Federal Alcohol Administration Act (the FAA Act, 27 U.S.C. 201 et seq.) requires that alcohol beverage labels provide the consumer with adequate information regarding a product's identity and prohibits the use of misleading information on such labels. The FAA Act also authorizes the Secretary of the Treasury to issue regulations to carry out its provisions. The Alcohol and Tobacco Tax and Trade Bureau (TTB) administers these regulations.

Part 4 of the TTB regulations (27 CFR part 4) allows the establishment of definitive viticultural areas and the use of their names as appellations of origin on wine labels and in wine advertisements. Part 9 of the TTB regulations (27 CFR part 9) contains the list of approved viticultural areas.

Definition

Section 4.25(e)(1)(i) of the TTB regulations (27 CFR 4.25(e)(1)(i)) defines a viticultural area for American wine as a delimited grape-growing region distinguishable by geographical features, the boundaries of which have been recognized and defined in part 9 of the regulations. These designations allow vintners and consumers to attribute a given quality, reputation, or other characteristic of a wine made from grapes grown in an area to its geographic origin. The establishment of viticultural areas allows vintners to describe more accurately the origin of their wines to consumers and helps consumers to identify wines they may purchase. Establishment of a viticultural area is neither an approval nor an endorsement by TTB of the wine produced in that area.

Requirements

Section 4.25(e)(2) of the TTB regulations outlines the procedure for proposing an American viticultural area and provides that any interested party may petition TTB to establish a grape-growing region as a viticultural area. Section 9.3(b) of the TTB regulations requires the petition to include—

• Evidence that the proposed viticultural area is locally and/or nationally known by the name specified in the petition;

• Historical or current evidence that supports setting the boundary of the proposed viticultural area as the petition specifies;

• Evidence relating to the geographical features, such as climate, soils, elevation, and physical features, that distinguish the proposed viticultural area from surrounding areas;

• A description of the specific boundary of the proposed viticultural area, based on features found on United States Geological Survey (USGS) maps; and

• A copy of the appropriate USGS map(s) with the proposed viticultural area's boundary prominently marked.

Shawnee Hills Petition

TTB received a petition from Dr. Theodore F. Wichmann, president of Owl Creek Vineyard, Inc., and Dr. Imed Dami, Illinois State Viticulturist, proposing the establishment of a new viticultural area in southern Illinois to be called “Shawnee Hills.” The proposed Shawnee Hills viticultural area lies largely within the Shawnee National Forest in Alexander, Gallatin, Hardin, Jackson, Johnson, Pope, Pulaski, Randolph, Saline, Union, and William counties. Encompassing a region of unglaciated hills between the Ohio and Mississippi Rivers, the proposed viticultural area is about 80 miles long east to west and 20 miles wide north to south, and it covers about 2,139 square miles or 1,268,960 acres.

People have raised grapes, including such important present-day wine varieties as Norton, in the proposed Shawnee Hills viticultural area since 1860, according to the petition, citing “Grape Culture” by W.E. Gould (1891). The proposed area contained 1,250 acres of vineyards in 1890, and vintners produced 19,750 gallons of wine in 1891, the petition adds, citing “Grape and Wine Production in Illinois from 1983 to Present,” by R.M. Skirvin, et al., in “Illinois Grape Growers and Vintners Association Conference Proceedings,” (2000). Currently, there are eight wineries and 51 vineyards with approximately 160 acres of planted wine varietals within the proposed area, the petition states, citing “1999 Grape Growers and Vintner's Survey,” by Imed Dami, in “Illinois Grape Growers and Vintners Association Conference Proceedings,” (2000).

Name Evidence

The Shawnee Indian Nation, led by Chief Tecumseh and his brother, The Prophet, occupied the southern Illinois hill country in the early 1800s in an attempt to stem the flow of white settlers from the east. As a result, the petition states, the Shawnee name became attached to the hills, and its continuing use is documented in academic and State government publications. For example, the book “Land Between the Rivers” (C.W. Horrell, et al., 1973), as cited in the petition, describes the region as follows:

South of the Mount Vernon hill country you come next to the Shawnee Hills [which mark] the southernmost limit of the prehistoric ice sheets. The Shawnee Hills culminate in Shawneetown Ridge, a heavily timbered wilderness of bluffs and knobs reaching up to an elevation of over a thousand feet, with rocky cliffs towering hundreds of feet above the valley floor. The Shawnee Hills are the heart of Southern Illinois [and] the 204,000 acre Shawnee National Forest. (pg. 11.)

The Illinois State Geological Survey map “Landforms of Illinois” (1980) labels the hills within the proposed viticultural area as the Shawnee Hills. In addition, an Illinois Department of Natural Resources brochure titled “Illinois’ Natural Divisions and Biodiversity” (April 2002) describes the State's 14 unique natural regions. These regions are based upon such natural features as topology, geology, soils, and climate, as well as their unique flora and fauna. According to the brochure, the Shawnee Hills natural region consists of two sections, the Greater and the Lesser Shawnee Hills.

“Shawnee” also appears in many other political and geographic names within the proposed viticultural area, including Shawneetown, Shawneetown Ridge, and the Shawnee National Forest, which lies largely within the proposed area. Furthermore, five of the wineries in the proposed viticultural area formed the “Shawnee Hills Wine Trail” in 1996, which is described in a brochure of the same name. According to the petition, the names “Shawnee Hills” and “Shawnee Hills Wine Trail” have been used numerous times in other national, State, and local publications.

Boundary Evidence

Academic and State government publications describe the boundaries of the Shawnee Hills landform, and the petition included copies of these publications. As described by Horrell, et al., the Shawnee Hills is an unglaciated region, which extends across southern Illinois. The region is about 80 miles long, from the Ohio River in the east to the Mississippi River in the west, and approximately 20 miles wide from north to south. The region's elevation is its most distinguishing feature, averaging roughly 400 to 800 feet higher in elevation than the glaciated land immediately to the north or the Mississippi and Ohio River flood plains immediately to the south.

According to the petition, and the State of Illinois publications and maps submitted with it, the eastern boundary of the Shawnee Hills is the bluff line along the Ohio River, while its western boundary is the high bluff line above the Mississippi bottomland. The “Natural Divisions and Biodiversity” brochure notes that the Mt. Vernon Hill Country section of the Southern Till Plain division lies north of the Shawnee Hills. As noted in the petition and in the accompanying publications, the dividing line between the Shawnee and the Mt. Vernon Hill Country marks the southernmost advance of Ice Age glaciers. The area immediately to the south of the Shawnee Hills consists of the lowlands and flood plains found along the Ohio and Mississippi Rivers. This region, according to the petition, is commonly called the “Cairo Delta.”

As proposed, the proposed Shawnee Hills viticultural area boundaries largely follow the natural boundaries of the Shawnee Hills landform. Differences between the “natural” boundaries of the Shawnee Hills region and the proposed Shawnee Hills viticultural area are minor and largely a matter of convenience, such as using a road at the base of the Mississippi River bluff rather than a complex meandering elevation line to mark a portion of the proposed area's western boundary. The proposed viticultural area also largely follows the boundaries of the Shawnee National Forest, which covers much of the Shawnee Hills region.

Distinguishing Features

Elevation

As noted by the petitioners and by Horrell, et al., in “Land Between the Rivers,” elevation is the most obvious feature distinguishing the Shawnee Hills from surrounding areas. As shown on the “Paducah; Kentucky: Illinois-Missouri-Indiana” USGS map (1987) submitted with the petition, the Shawnee Hills range from 400 to 800 feet higher in elevation than the glaciated land to the north and the river delta land to the south. Most of the highest elevations in Illinois, many above 1,000 feet, are in the Shawnee Hills.

According to the petition, spectacular hills and ridges and a unique mesoclimate characterize the proposed Shawnee Hills viticultural area. Nearly all vineyards in the proposed Shawnee Hills viticultural area are on ridge tops and bench lands ranging between 600 and 900 feet in elevation. As such, the commercial vineyards in the Shawnee Hills area have experienced little or no spring frost or winter freeze injury. An additional benefit of the Shawnee Hills topography, the petition notes, is the enhanced air circulation caused by constant summer breezes, allowing faster drying of vineyard leaves and fruit clusters following rain, thus minimizing the risk of fungal infections in an otherwise humid, wet climate.

In contrast, the Mt. Vernon Hill County region immediately to the north of the Shawnee Hills was glaciated, and, as a result, is 400 to 500 feet lower in elevation than the Shawnee Hills. The Mt. Vernon region also is relatively flatter with no high ridges, cliffs, or canyons. Horrell, et al., describe the topography of the Mt. Vernon Hill Country as “rolling farmland.”

The Cairo Delta area to the south of the Shawnee Hills is lower still, averaging about 300 to 400 feet in elevation, with an extremely flat topography that is often totally flooded by the Cache, Ohio, Wabash, and Mississippi Rivers, which all converge there. This area comprises all of the land in Illinois south of the Shawnee Hills. Horrell, et al. (1973), describe this area as follows:

Beyond Shawneetown Ridge the land drops away in gentle foothills to the low-lying swamps and lakes along the Cache River—the ancient bed of the Ohio River. Beyond Cache valley you come to the flood plain of the Ohio River itself. Two similar flood plains border Southern Illinois on the east and west, forming the banks of the Wabash and Mississippi rivers.

Geology

The petitioners also note that the geological characteristics of the Shawnee Hills are a distinguishing feature. The “Illinois Geological Survey,” compiled by H.B. William, et al. (1967), as cited in the petition, notes that the backbone of the Shawnee Hills is the Shawneetown Ridge, a high ridge of Pennsylvanian, Caseyville Formation Battery Rock sandstone up to 600 feet thick, which runs east to west from the Ohio River south of Shawneetown to the Mississippi River near Chester. This rock is very obvious in the ridge's south-facing bluffs, as well as along the north-south roads cut through it. The ridge's northern slope consists primarily of Pennsylvania, Abbott Formation, Grindstaff sandstone up to 350 feet thick. The southern slope consists primarily of Mississippian Upper Chesterian, Grove Church shale up to 65 feet thick, and Kinkaid Limestone, which is 110 to 180 feet thick. The bluffs above the Mississippi River consist primarily of Lower Devonian Clear Creek chert and Backbone limestone.

This underlying mixture of sandstone, chert, and limestone gives the Shawnee Hills a Karst-like topography, honeycombed with sinkholes and limestone caves feeding many surface springs. One of the few such areas in Illinois, the petition notes that this combination of steep slopes, rock fissures, sink holes, and caves provides the proposed viticultural area with superior surface and ground water drainage in a region that often has excessive rainfall (38 to 46 inches annually).

In contrast, the petition notes, the Mt. Vernon Hill Country to the north of the Shawnee Hills was totally glaciated, resulting in much lower elevation, flatter topography, and a very different geology. The southern portion of the Mt. Vernon Hill Country consists primarily of Pennsylvanian, Spoon Formation, Curlew limestone layered with DeKoren and Davis coal, as well as Carbondale Formation, Piasa limestone with number 2, 5, and 6 coal. The northern part of the Mt. Vernon Hill Country area consists primarily of Modesto Formation Shoal Creek limestone 200 to 500 feet thick with number 7 and 8 coal throughout, as well as Bond Formation, Millersville limestone 100 to 350 thick. Horrell, et al. (1973), describe this area as “ a great crescent stretching southeast from Randolph and Perry counties to Gallatin county, where coal beds come so close to the surface that they have made this the most heavily mined region in the state.”

Also in contrast, the Cairo Delta area south of the Shawnee Hills was not flattened by ice but by water from both glacial melt and the tremendous flow and flooding of the two largest rivers in the country—the Mississippi and the Ohio Rivers, which eroded and replaced rock with clay, sand, and gravel. According to the “Illinois State Geological Survey,” the northern part of the delta area consists of Cretaceous, Gulfian McNary sand and Tuscaloesa gravel. The southern part of this area consists of Paleocene and Eocene Wilcox Formation, Porters Creek clay 75 to 150 feet thick.

Climate

Another distinguishing factor of the proposed Shawnee Hills viticultural area, according to the petitioners, is its climate. While the Shawnee Hills area generally has a continental climate, as does all of the Midwestern United States, the hills climatically separate the upper Midwest from the South. As a result, the Shawnee Hills region is a unique grape-growing area that is significantly cooler than adjacent areas to the south, which are often too hot in the summer to grow quality grapes. The Shawnee Hills area is also significantly warmer than adjacent areas to the north. This provides a longer growing season for ripening late varieties of grapes, higher degree-days for optimum ripeness, and fewer winter occurrences of below-zero degree Fahrenheit temperatures, which can kill buds and damage wood on many grape varieties.

As evidence of this unique climate, the petition included data from the Midwestern Climate Center (http://mcc.sws.uiuc.edu/summary) for Mt. Vernon, Anna, and Cairo, Illinois. Anna is located within the proposed Shawnee Hills viticultural area, Mt. Vernon, which is within the Mt. Vernon Hill Country region, is approximately 50 miles north of Anna, while Cairo, which is within the Cairo Delta region, is approximately 35 miles south of Anna.

The table shown below, which the petitioners provided, compares Shawnee Hills, Mt. Vernon, and Cairo temperature data. The table shows that the Shawnee Hills could be classified as a mid-Region IV climate in the Winkler heat summation climate classification system, with 3,770 growing degree-days. (During the growing season, one degree day accumulates for each degree Fahrenheit that a day's average temperature is above 50 degrees, which is the minimum temperature required for grapevine growth. See “General Viticulture,” by Albert J. Winkler, University of California Press, 1974.)

Heat Summation as Degree-Days Above 50 Degrees Fahrenheit for the Period April 15 to October 15
Climate station | Degree days over 50 °F: Apr. 15-30 | Degree days over 50 °F: May | Degree days over 50 °F: June | Degree days over 50 °F: July | Degree days over 50 °F: Aug. | Degree days over 50 °F: Sept. | Degree days over 50 °F: Oct. 1-15 | Degree days over 50 °F: Apr. 15- Oct. 15 | Winkler climate region
Mt. Vernon | 108 | 447 | 706 | 835 | 774 | 550 | 123 | 3,543 | Low Region IV.
Anna | 127 | 498 | 733 | 868 | 815 | 587 | 142 | 3,770 | Mid Region IV.
Cairo | 159 | 586 | 823 | 950 | 872 | 643 | 168 | 4,201 | Low Region V.
Source Midwest Climate Center Data: http://mcc.sws.uiuc.edu/summary/data.

For the Shawnee Hills area, the average temperatures are highest from mid-June to mid-August during verasion and early ripening; then the temperatures taper off in September and October, which is the period of late ripening and harvest. Typically, the area experiences warm days and cool nights from late August to October.

The table below, which the petitioners also provided, describes the length of growing season for the three areas (Mt. Vernon, Anna, and Cairo). For the Shawnee Hills, the median last spring frost occurs by April 10. In 10 percent of the years, the last frost occurred after April 23. North of this area, the median last spring frost occurs in mid-April, with 10 percent occurring after May 2. Since bud break generally occurs during the second week of April, areas to the north of the Shawnee Hills often experience more bud and shoot damage due to late frost. Also, since the first frost in the fall occurs one to three weeks later in the Shawnee Hills than in areas to the north, late varieties such as Chambourcin and Norton ripen more fully before leaf drop.

Growing Season Summary, 1961-1990
[Base Temperature = 32 Degrees Fahrenheit]
Station | Date of last spring frost occurrence: Median | Date of last spring frost occurrence: 90% | Date of last spring frost occurrence: 10% | Date of first fall frost occurrence: Median | Date of first fall frost occurrence: 90% | Date of first fall frost occurrence: 10% | Length of growing season: Median | Length of growing season: 90% | Length of growing season: 10%
Mt. Vernon | 4/12 | 3/27 | 5/02 | 10/16 | 10/03 | 10/29 | 184 | 207 | 150
Anna | 4/10 | 3/23 | 4/23 | 10/27 | 10/12 | 11/07 | 200 | 215 | 186
Cairo | 3/24 | 3/01 | 4/08 | 11/13 | 10/31 | 11/28 | 233 | 260 | 214
Source Midwest Climate Center Data: http://mcc.sws.uiuc.edu/summary/data.

Because the Midwestern United States is a continental climate, one of the limiting factors in growing quality wine grapes is dormant wood and bud damage due to extreme cold temperatures in the winter. The next table, as provided by the petitioners, shows that the Shawnee Hills area averages 81 days below 30 degrees Fahrenheit and 1.8 days below 0 degrees Fahrenheit each year. The region immediately to the north averages 104 days below 30 degrees Fahrenheit and 3.5 days below 0 degrees Fahrenheit. One or two days of extreme cold can mean the difference between a full crop and healthy wood, and a partial crop and damaged wood.

Average Annual Temperature Variation
[Averages: 1961-1990; Extremes: 1896-2000]
Station | Average annual temperature (degrees fahrenheit): Maximum | Average annual temperature (degrees fahrenheit): Minimum | Average annual temperature (degrees fahrenheit): Mean | Annual number of days of minimum temperature: <32° F | Annual number of days of minimum temperature: <0° F
Mt. Vernon | 65.0 | 42.9 | 54.0 | 104 | 3.5
Anna | 67.1 | 46.1 | 56.6 | 81 | 1.8
Cairo | 67.5 | 49.9 | 58.7 | 64 | 0.7
Source Midwest Climate Center Data: http://mcc.sws.uiuc.edu/summary/data.

Rainfall

The petitioners note that while rainfall does not appear to be a distinguishing feature for the proposed Shawnee Hills viticultural area, the area's drainage capacity does differ from that of surrounding areas.

Because of its well-drained soils, steep topography, and limestone base, the Shawnee Hills can shed excess water more quickly and completely than adjacent areas. In the Shawnee Hills area, most precipitation occurs in the spring months of March through May. The driest months are generally September and October, which receive an average of only 2 to 3 inches per month. Although the area receives excessive rainfall on an annual basis, the growing season and the harvest months are more moderate in terms of rainfall. The drier harvest months allow grapes to develop more intensity in flavor, color, sugar, and acid. In most years, the petition states, the Shawnee Hills vineyards produce wine grapes that are very well balanced relative to these quality parameters.

Soils

While noting that soils vary in the large Shawnee Hills area, which includes 11 counties, the petitioners offer a general description contrasting the soils of the proposed area with the soils of adjacent areas. As noted on the “General Soil Map of Illinois,” prepared by J.B. Fehrenbacher (1982), the soils in the proposed Shawnee Hills viticultural area are, generally, class XIII and class XIV, which tend to be thin loess with or without residuum on limestone or interbedded sandstone, siltstone, and shale. The main soils are Alford, Hosmer, Wellston, and Zanesville. All of these soils are light colored, moderately developed, and moderately well drained. The western and southern parts of the area tend to have deeper soils, 12 to 20 feet thick, on limestone. The central and northern parts of the area tend to have soil that is 20 to 48 inches thick on sandstone, siltstone, and shale. The primary viticultural advantage of the soils within the Shawnee Hills is that they are moderately well drained and are of low fertility.

Soil drainage in the Shawnee Hills area is moderate to excellent. In this area of Karst topography, the loess soils, which tend to erode easily, are very good for quality vines and grapes. However, the best vineyard sites within the proposed Shawnee Hills viticultural area are on flat ridge tops and bench lands with deep soils that are not highly eroded.

In contrast, the soil north of the Shawnee Hills in the Mt. Vernon Hill Country is class II, which is primarily thick loess (30 to 70 inches) on Illinois drift. The main soils are Stoy, Weir, Bluford, Wynoose, Colp, and Del Rey. These soils tend to be much deeper than those in the Shawnee Hills, as well as more fertile but with much poorer drainage. In general, these soils are more suited to growing such crops as corn and soybeans, which are the primary crops of the Mt. Vernon Hill Country, than to growing apples, peaches, and grapes, which are the primary crops in the Shawnee Hills area.

In contrast, the soils south of the Shawnee Hills in the Cairo Delta are primarily class XV, which are sandy to clay alluvial sediments on bottomlands. The soils include Lawson, Sawmill, Darwin, Haymond, Perrolia, and Karnak. These soils tend to be poorly developed and poorly drained. These bottomlands, which dominate this area, are not suitable for growing grapes, according to the petition.

Boundary Description

See the narrative boundary description of the petitioned-for viticultural area in the proposed regulatory text published at the end of this notice.

Maps

The petitioners provided the required maps, and we list them below in the proposed regulatory text.

Impact on Current Wine Labels

Part 4 of the TTB regulations prohibits any label reference on a wine that indicates or implies an origin other than the wine's true place of origin. If we establish this proposed viticultural area, its name, “Shawnee Hills,” will be recognized as a name of viticultural significance. Consequently, wine bottlers using “Shawnee Hills” in a brand name, including a trademark, or in another label reference as to the origin of the wine, will have to ensure that the product is eligible to use the viticultural area's name as an appellation of origin. On the other hand, we do not believe that “Shawnee” standing alone would have viticultural significance if the new area were established. We note in this regard that while searches of the Geographic Names Information System maintained by the U.S. Geological Survey show no entries for “Shawnee Hills” in Illinois, there are entries for “Shawnee” standing alone or in conjunction with words such as “Creek,” “Lake,” “Peak,” or “Valley” in 29 States. Accordingly, the proposed part 9 regulatory text set forth in this document specifies only the full “Shawnee Hills” name as a term of viticultural significance for purposes of part 4 of the TTB regulations.

For a wine to be eligible to use as an appellation of origin the name of a viticultural area specified in part 9 of the TTB regulations, at least 85 percent of the grapes used to make the wine must have been grown within the area represented by that name, and the wine must meet the other conditions listed in 27 CFR 4.25(e)(3). If the wine is not eligible to use the viticultural area name as an appellation of origin and that name appears in the brand name, then the label is not in compliance and the bottler must change the brand name and obtain approval of a new label. Similarly, if the viticultural area name appears in another reference on the label in a misleading manner, the bottler would have to obtain approval of a new label. Accordingly, if a new label or a previously approved label uses the name “Shawnee Hills” for a wine that does not meet the 85 percent standard, the new label will not be approved, and the previously approved label will be subject to revocation, upon the effective date of the approval of the Shawnee Hills viticultural area.

Different rules apply if a wine has a brand name containing a viticultural area name that was used as a brand name on a label approved before July 7, 1986. See 27 CFR 4.39(i)(2) for details.

Public Participation

Comments Invited

We invite comments from interested members of the public on whether we should establish the proposed viticultural area. We are also interested in receiving comments on the sufficiency and accuracy of the name, climactic, boundary, and other required information submitted in support of the petition. Please provide any available specific information in support of your comments.

Because of the potential impact of the establishment of the proposed Shawnee Hills viticultural area on brand labels that include the words “Shawnee Hills” as discussed above under Impact on Current Wine Labels, we are particularly interested in comments regarding whether there will be a conflict between the proposed area name and currently used brand names. If a commenter believes that a conflict will arise, the comment should describe the nature of that conflict, including any negative economic impact that approval of the proposed viticultural area will have on an existing viticultural enterprise. We are also interested in receiving suggestions for ways to avoid any conflicts, for example by adopting a modified name for the viticultural area.

Although TTB believes that only the full name “Shawnee Hills” should be considered to have viticultural significance upon establishment of the proposed new viticultural area, we also invite comments from those who believe that “Shawnee” standing alone would have viticultural significance upon establishment of the area. Comments in this regard should include documentation or other information supporting the conclusion that use of “Shawnee” on a wine label could cause consumers and vintners to attribute to the wine in question the quality, reputation, or other characteristic of wine made from grapes grown in the proposed Shawnee Hills viticultural area.

Submitting Comments

Please submit your comments by the closing date shown above in this notice. Your comments must include this notice number and your name and mailing address. Your comments must be legible and written in language acceptable for public disclosure. We do not acknowledge receipt of comments, and we consider all comments as originals. You may submit comments in one of five ways:

• Mail: You may send written comments to TTB at the address listed in the ADDRESSES section.

• Facsimile: You may submit comments by facsimile transmission to 202-927-8525. Faxed comments must—

(1) Be on 8.5 by 11 inch paper;

(2) Contain a legible, written signature; and

(3) Be no more than five pages long. This limitation assures electronic access to our equipment. We will not accept faxed comments that exceed five pages.

• E-mail: You may e-mail comments to nprm@ttb.gov. Comments transmitted by electronic mail must—

(1) Contain your e-mail address;

(2) Reference this notice number on the subject line; and

(3) Be legible when printed on 8.5 by 11 inch paper.

• Online form: We provide a comment form with the online copy of this notice on our Web site at http://www.ttb.gov/alcohol/rules/index.htm. Select the “Send comments via e-mail” link under this notice number.

• Federal e-rulemaking portal: To submit comments to us via the Federal e-rulemaking portal, visit http://www.regulations.gov and follow the instructions for submitting comments.

You may also write to the Administrator before the comment closing date to ask for a public hearing. The Administrator reserves the right to determine, in light of all circumstances, whether to hold a public hearing.

Confidentiality

All submitted material is part of the public record and subject to disclosure. Do not enclose any material in your comments that you consider confidential or inappropriate for public disclosure.

Public Disclosure

You may view copies of this notice, the petition, the appropriate maps, and any comments we receive by appointment at the TTB Library at 1310 G Street, NW., Washington, DC 20220. You may also obtain copies at 20 cents per 8.5 x 11 inch page. Contact our librarian at the above address or by telephone at 202-927-2400 to schedule an appointment or to request copies of comments.

For your convenience, we will post this notice and any comments we receive on this proposal on the TTB Web site. We may omit voluminous attachments or material that we consider unsuitable for posting. In all cases, the full comment will be available in the TTB Library. To access the online copies of this notice and the posted comments, visit http://www.ttb.gov/alcohol/rules/index.htm. Select the “View Comments” link under this notice number to view the posted comments.

Regulatory Flexibility Act

We certify that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

This proposed rule is not a significant regulatory action as defined by Executive Order 12866, 58 FR 51735. Therefore, it requires no regulatory assessment.

Drafting Information

Rita Butler of the Regulations and Procedures Division drafted this notice.

List of Subjects in 27 CFR Part 9

Wine.

The Proposed Amendment

For the reasons discussed in the preamble, we propose to amend 27 CFR, chapter 1, part 9 as follows:

PART 9—AMERICAN VITICULTURAL AREAS

1. The authority citation for part 9 continues to read as follows:

Authority: 27 U.S.C. 205.

Subpart C—Approved American Viticultural Areas

2. Amend subpart C by adding § 9.__ to read as follows:

§ 9.__ Shawnee Hills.

(a) Name. The name of the viticultural area described in this section is “Shawnee Hills”. For purposes of part 4 of this chapter, “Shawnee Hills” is a term of viticultural significance.

(b) Approved Maps. The United States Geological Survey (USGS) 1:250,000-scale topographic map used to determine the boundary of the Shawnee Hills viticultural area is titled: Paducah: Kentucky-Illinois, Missouri-Indiana, 1:250,000-scale metric topographic map, 1 x 2 degree quadrangle, edition 1987.

(c) Boundary. The Shawnee Hills viticultural area is located in southern Illinois between the Ohio and Mississippi Rivers, and largely within the Shawnee National Forest. The area's boundary is defined as follows—

(1) Beginning at the intersection of State Routes 3 and 150 in the town of Chester (Randolph County), proceed northeast on Route 150 to its intersection with the surveyed boundary line between Township 6 South (T6S) and Township 7 South (T7S); then

(2) Proceed due east along the T6S/T7S boundary line until it becomes the boundary between Perry and Jackson Counties, and continue east along the Perry/Jackson County line to State Route 4; then

(3) Proceed southeast on State Route 4 through the villages of Campbell Hill, Ava, and Oraville to its intersection with State Route 13/127; then

(4) Proceed south on State Route 13/127 to the intersection where State Routes 13 and 127 divide in the town of Murphysboro; then

(5) Proceed east on State Route 13 through the city of Carbondale to State Route 13's intersection with Interstate 57; then

(6) Proceed south on Interstate 57 to its intersection with State Route 148; then

(7) Proceed southeast on State Route 148 to its intersection with State Route 37; then

(8) Proceed south on State Highway 37 to Saline Creek; then

(9) Proceed northeasterly (downstream) along Saline Creek to its confluence with the South Fork of the Saline River, then continue easterly (downstream) along the South Fork of the Saline River to its confluence with the Saline River, then continue easterly and then southeasterly (downstream) along the Saline River to its confluence with the Ohio River near Saline Landing; then

(10) Proceed southwesterly (downstream) along the Ohio River to the Interstate 24 bridge; then

(11) Proceed north on Interstate 24 to its intersection with the New Columbia Ditch (with the towns of Big Bay to the northeast and New Columbia to the northwest); then

(12) Proceed westerly along the New Columbia Ditch to its confluence with the Main Ditch, and continue westerly along the Main Ditch to its confluence with the Cache River (near the Cache River's confluence with the Post Creek Cutoff), approximately 1.5 miles east-northeast of the village of Karnak; then

(13) Proceed westerly (downstream) along the Cache River, passing under Interstate 57 near the village of Ullin, and continue southeasterly along the Cache River to the river's confluence with Sandy Creek (northeast of the village of Sandusky); then

(14) Proceed westerly (upstream) along Sandy Creek approximately 4 miles to its junction with an unnamed secondary road (known locally as Alexander County Road 4); then

(15) Proceed south along the unnamed secondary road (Alexander County Road 4) to its junction with State Route 3 at the village of Olive Branch; then

(16) Proceed northwest on State Route 3 to its intersection with the Main Ditch (also known locally as Sexton Creek) at the village of Gale; then

(17) Proceed northerly along Main Ditch and Clear Creek Ditch to a light-duty road (known locally as State Forest Road) near the southwest corner of the Trail of Tears State Forest, approximately 3.75 miles east of the village of Wolf Lake; then

(18) Proceed west on the light-duty road (State Forest Road) to its intersection with State Route 3 just south of Wolf Lake; then

(19) Proceed north on State Route 3 to its junction with the Big Muddy River (near the village of Aldridge), and continue north (upstream) along the Big Muddy River to its confluence with Kincaid Creek near the village of Grimsby; then

(20) Continue northerly along Kincaid Creek to its junction with State Route 149; then

(21) Proceed west on State Route 149 to its junction with State Route 3, and then continue northwest along State Route 3 to the beginning point in the town of Chester.

Signed: March 31, 2005.
John J. Manfreda,
Administrator.

[FR Doc. 05-6994 Filed 4-7-05; 8:45 am]

BILLING CODE 4810-31-P